DEPARTMENT OF ENERGY

Federal Energy Regulatory Commission

[Project No. 906-028]

Virginia Electric Power Company, Cushaw Hydro, LLC; Notice of Application for Transfer of License and Soliciting Comments, Motions To Intervene, and Protests

On June 30, 2017, Virginia Electric Power Company (transferor) and Cushaw Hydro, LLC (transferee) filed an application for the transfer of license for the Cushaw Hydroelectric Project No. 906, from the transferor to the transferee. The project is located on the James River in Bedford and Amherst counties, Virginia. The project occupies Federal lands administered by the U.S. Forest Service.

The applicants seek Commission approval to transfer the license for the Cushaw Hydroelectric Project from the transferor to the transferee.

Applicant's Contacts: For Transferor: Ms. Cheri Yochelson, Senior Counsel, Virginia Electric Power Company, c/o Dominion Energy Services, Inc., 120 Tredegar Street, RS-2, Richmond, VA 23219, Phone: 804-819-2691, Email: cheri.m.yochelson@dominionenergy.com and Mr. Donald H. Clarke and Mr. Joshua E. Adrian, c/o Duncan, Weinberg, Genzer & Pembroke, P.C., 1615 M Street NW., Suite 800, Washington, DC 20036, Phone: 202-467-6370, Emails: dhc@dwgp.com and jea@dwgp.com.

For Transferee: Mr. Mark A. Fendig, Cushaw Hydro, LLC, P.O. Box 13, Coleman Falls, VA 24536, Phone: 434-386-5557, Email: mfendig@asiva.net and Mr. Bob Wandrei, c/o Radford & Wandrei, PC, Bedford, VA 24523-1008, Phone: 540-586-3151, Email: rwandra@gmail.com.

FERC Contact: Patricia W. Gillis, (202) 502-8735, patricia.gillis@ferc.gov.

Deadline for Filing Comments, Motions To Intervene, and Protests: 30 days from the date that the Commission issues this notice. The Commission strongly encourages electronic filing. Please file comments, motions to intervene, and protests using the Commission's eFiling system at http://www.ferc.gov/docs-filing/efiling.asp. Commenters can submit brief comments up to 6,000 characters, without prior registration, using the eComment system at http://www.ferc.gov/docs-filing/ecomment.asp. You must include your name and contact information at the end of your comments. For assistance, please contact FERC Online Support at FERCOnlineSupport@ferc.gov, (866) 208-3676 (toll free), or (202) 502-8659 (TTY). In lieu of electronic filing, please send a paper copy to: Secretary, Federal Energy Regulatory Commission, 888 First Street NE., Washington, DC 20426. The first page of any filing should include docket number P-906-028.

Dated: August 17, 2017.
Nathaniel J. Davis, Sr.,
Deputy Secretary.

[FR Doc. 2017-17850 Filed 8-22-17; 8:45 am]

BILLING CODE 6717-01-P